DEPARTMENT OF HOMELAND SECURITY

Coast Guard

[Docket No. USCG-2016-0368]

Practicability Review: Standards for Living Organisms in Ships' Ballast Water Discharged in United States Waters

AGENCY: Coast Guard, DHS.

ACTION: Notice of availability.

SUMMARY: The Coast Guard announces the availability of its Practicability Review conducted for the purpose of determining whether technology to comply with a performance standard more stringent than that required by the Coast Guard's current regulations on Ballast Water Discharges can be practicably implemented and whether testing protocols that can assure accurate measurement of compliance with a more stringent performance standard can be practicably implemented. Coast Guard ballast water regulations require the Coast Guard to undertake and publish the results of its Practicability Review. In the Practicability Review, we conclude that, at this time, technology to achieve a significant improvement in ballast water treatment efficacy onboard vessels cannot be practicably implemented. The reason for this determination is that, as of the date of completion of the Practicability Review, there are no data demonstrating that ballast water management systems can meet a discharge standard more stringent than the existing performance standards. In light of this determination, the Coast Guard has not evaluated whether testing protocols exist which can accurately measure efficacy of treatment against a performance standard more stringent than the existing performance standards.

DATES: The Practicability Review is available on May 11, 2016.

ADDRESSES: The Practicability Review is available at: http://homeport.uscg.mil/ballastwater under Regulations and Policy Documents.

FOR FURTHER INFORMATION CONTACT: If you have questions on this notice, call CDR Meridena Kauffman, Chief, Environmental Standards Division (CG-OES-3), Coast Guard, telephone 202—372-1430, email Meridena.D.Kauffman@uscg.mil.

Dated: May 5, 2016.
J.G. Lantz,
Director of Commercial Regulations and Standards, U.S. Coast Guard.

[FR Doc. 2016-11129 Filed 5-10-16; 8:45 am]

BILLING CODE 9110-04-P